DEPARTMENT OF HEALTH AND HUMAN SERVICES

Centers for Disease Control and Prevention

Meeting; National Center for HIV, STD, and TB Prevention

The National Center for HIV, STD, and TB Prevention (NCHSTP) of the Centers for Disease Control and Prevention (CDC) announces the following meeting:

Name: Consultation on the prevention needs of young men of color who have sex with other men (YMSM).

Time and Date: 8:30 am-5:30 pm, April 12, 2001.

Place: Centers for Disease Control and Prevention, 8 Corporate Square Boulevard, Building 8, Atlanta, GA 30329.

Purpose: Invitation meeting and open to the public for observation. Limited by space available. The meeting room accommodates 30 people.

Matters To Be Discussed: The meeting will solicit the individual advice and recommendations of non-governmental, governmental, and community-based providers who are knowledgeable and experienced in HIV prevention programs targeting YMSM of color.

Contact Person for More Information: Chad Martin, Special Assistant to the Director on Youth and HIV Prevention, Division of HIV/AIDS Prevention, National Center for HIV, STD, and TB Prevention, CDC, Corporate Square Office Park, 8 Corporate Square Boulevard, M/S E35, Atlanta, Georgia 30329, telephone 404/639-5217, e-mail cmartin@cdc.gov.

The Director, Management Analysis and Services Office, has been delegated the authority to sign Federal Register Notices pertaining to announcements of meetings and other committee management activities, for the both the Centers for Disease Control and Prevention and the Agency for Toxic Substances and Disease Registry.

Dated: April 5, 2001.
Carolyn J. Russell,
Director, Management Analysis and Services Office, Centers for Disease Control and Prevention.

[FR Doc. 01-8881 Filed 4-10-01; 8:45 am]

BILLING CODE 4163-18-P